ENVIRONMENTAL PROTECTION AGENCY

[EPA-HQ-OA-2006-0278; FRL—9523-6]

Information Collection Request Submitted to OMB for Review and Approval; Comment Request; Participation by Disadvantaged Business Enterprises in Procurement Under EPA Financial Assistance Agreements (Reinstatement)

AGENCY: Environmental Protection Agency (EPA).

ACTION: Notice.

SUMMARY: The Environmental Protection Agency has submitted an information collection request (ICR), “Participation by Disadvantaged Business Enterprises in Procurement under EPA Financial Assistance Agreements (Reinstatement)” (EPA ICR No. 2047.04, OMB Control No. 2090-0030) to the Office of Management and Budget (OMB) for review and approval in accordance with the Paperwork Reduction Act (44 U.S.C. 3501 et seq.). This ICR expired on January 31, 2011. This is a request for reinstatement of a previously approved collection. Public comments were previously requested via the Federal Register (77 FR 32087) on May 31, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 7, 2012.

ADDRESSES: Submit your comments, referencing Docket ID No. EPA-HQ-OA-2006-0278, to (1) EPA online using www.regulations.gov (our preferred method), by email to oei.docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Teree Henderson, Office of Small Business Programs, Mailcode: 1230T, Environmental Protection Agency, 1200 Pennsylvania Ave. NW., Washington, DC 20460; telephone number:202-566-2222 fax number: 202-566-0548; email address: Henderson.Teree@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: EPA currently requires an entity to be certified in order to be considered a Minority Business Enterprise (MBE) or Women's Business Enterprise (WBE) under EPA's Disadvantaged Business Enterprise (DBE) Program. EPA currently requires an entity to first attempt to become certified by a federal agency (e.g., the Small Business Administration (SBA), or the Department of Transportation (DOT)), or by a State, locality, Indian Tribe or independent private organization so long as their applicable criteria match those under Section 8(a)(5) and (6) of the Small Business Act and applicable implementing regulations. EPA only certifies firms that are denied certification by one of these entities. To qualify as an MBE or WBE under EPA's programs an entity must establish that it is owned and/or controlled by socially and economically disadvantaged individuals who are of good character and are citizens of the United States. Entities that meet the aforementioned requirements and wish to obtain an EPA DBE certification must submit a DBE Certification Application to the Office of Small Business Programs based on business type: Sole Proprietorship (6100-1a); Limited Liability Company (6100-1b); Partnership (6100-1c); Corporation (6100-1d); Alaska Native Corporation (6100-1e); Tribally Owned Business (6100-1f); Private and Voluntary Organization (6100-1g); Native Hawaiian Organization (6100-1h); or Community Development Corporation (6100-1i).

The EPA DBE Program also includes contract administration requirements designed to prevent unfair practices that adversely affect DBEs. There are three forms associated with these requirements: EPA Form 6100-2 (DBE Subcontractor Participation Form), EPA Form 6100-3 (DBE Subcontractor Performance Form), and EPA Form 6100-4 (DBE Subcontractor Utilization Form). The requirements to complete these forms are intended to prevent any “bait and switch” tactics at the subcontract level by prime contractors which may circumvent the spirit of the DBE Program.

Form Numbers: EPA Form 6100-1a, 6100-1b, 6100-1c, 6100-1d, 6100-1e, 6100-1f, 6100-1g, 6100-1h, 6100-1i, 6100-2, 6100-3, 6100-4.

Respondents/Affected Entities: All recipients of EPA financial assistance agreements, and entities receiving identified loans under a financial assistance agreement capitalizing a revolving loan fund.

Respondent's Obligation to Respond: Required to obtain or retain a benefit.

Estimated Number of Respondents: 4,046

Frequency of Response: Certification: Every three years or more often as required. Form 6100-2: As needed, Form 6100-3 and Form 6100-4: At the time of bid or proposal.

Total Estimated Burden: 334,804 hours. Burden is defined at 5 CFR 1320.03(b).

Total Estimated Cost: $8,491,016 (per year), includes $0 annualized capital or operation & maintenance costs.

Changes in the Estimates: This is a reinstatement of a previously approved ICR. This reinstatement is an increase of 10,662 hours in the total estimated burden over the previously approved ICR. This increase is due to a new burden estimate for the revised forms (EPA Forms 6100-2, 6100-3, and 6100-4) and a correction of a previous miscalculation from the prior approved ICR 2047.02.

John Moses,
Director, Collection Strategies Division.

[FR Doc. 2012-27161 Filed 11-6-12; 8:45 am]

BILLING CODE 6560-50-P